BUREAU OF CONSUMER FINANCIAL PROTECTION

[Docket No: CFPB-2016-0002]

Agency Information Collection Activities: Submission for OMB Review; Comment Request

AGENCY: Bureau of Consumer Financial Protection.

ACTION: Notice and request for comment.

SUMMARY: In accordance with the Paperwork Reduction Act of 1995 (PRA), the Consumer Financial Protection Bureau (Bureau) is proposing to extend a collection currently approved by the Office of Management and Budget (OMB) titled “Home Mortgage Disclosure Act (Regulation C) 12 CFR 1003.”

DATES: Written comments are encouraged and must be received on or before February 19, 2016 to be assured of consideration.

ADDRESSES: You may submit comments, identified by the title of the information collection, OMB Control Number (see below), and docket number (see above), by any of the following methods:

• Electronic: http://www.regulations.gov. Follow the instructions for submitting comments.

• OMB: Office of Management and Budget, New Executive Office Building, Room 10235, Washington, DC 20503 or fax to (202) 395-5806. Mailed or faxed comments to OMB should be to the attention of the OMB Desk Officer for the Bureau of Consumer Financial Protection.

Please note that comments submitted after the comment period will not be accepted. In general, all comments received will become public records, including any personal information provided. Sensitive personal information, such as account numbers or social security numbers, should not be included.

FOR FURTHER INFORMATION CONTACT: Documentation prepared in support of this information collection request is available at www.reginfo.gov (this link active on the day following publication of this notice). Select “Information Collection Review,” under “Currently under review”, use the dropdown menu “Select Agency” and select “Consumer Financial Protection Bureau” (recent submissions to OMB will be at the top of the list). The same documentation is also available at http://www.regulations.gov. Requests for additional information should be directed to the Consumer Financial Protection Bureau, (Attention: PRA Office), 1700 G Street NW., Washington, DC 20552, (202) 435-9575, or email: PRA@cfpb.gov. Please do not submit comments to this email box.

SUPPLEMENTARY INFORMATION: Title of Collection: Home Mortgage Disclosure Act (Regulation C) 12 CFR 1003.

OMB Control Number: 3170-0008.

Type of Review: Extension with change of a currently approved collection.

Affected Public: For-profit businesses.

Estimated Number of Respondents: 145.

Estimated Total Annual Burden Hours: 690,000.

Abstract: The Home Mortgage Disclosure Act (HMDA) requires certain depository institutions and for-profit nondepository institutions to collect, report, and disclose data about originations and purchases of mortgage loans, as well as mortgage loan applications that do not result in originations (for example, applications that are denied or withdrawn). The Bureau's Regulation C, 12 CFR part 1003, implements HMDA. The purpose of the information collection is: (i) To help determine whether financial institutions are serving the housing needs of their communities; (ii) to assist public officials in distributing public-sector investment so as to attract private investment to areas where it is needed; and (iii) to assist in identifying possible discriminatory lending patterns and enforcing antidiscrimination statutes. The information collection will also assist the CFPB's examiners, and examiners of other federal supervisory agencies, in determining that the financial institutions they supervise comply with applicable provisions of HMDA.

In accordance with 5 CFR 1320.11(f) and 1320.11(h), this information collection request (ICR) is being submitted to OMB in association with the final rule for Regulation C (RIN 3170-AA10), 80 FR 66127 published October 28, 2015. Further, since the information collection requirements as contained in current Regulation C are currently scheduled to expire on January 31, 2016, and the information collection requirements as contained in the final rule for Regulation C will generally not become effective until January 1, 2018, this ICR is also contemporaneously being submitted to OMB under 5 CFR 1320.12, Clearance of collections of information in current rules. The Bureau is requesting OMB to extend for an additional three years its approval of the information collection requirements as contained in current Regulation C.

Request For Comments: The Bureau issued a 60-day Federal Register notice on November 10, 2015, (80 FR 69646). Comments were solicited and continue to be invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB approval. All comments will become a matter of public record.

Dated: January 13, 2016.
Darrin A. King,
Paperwork Reduction Act Officer, Bureau of Consumer Financial Protection.

[FR Doc. 2016-01006 Filed 1-19-16; 8:45 am]

BILLING CODE 4810-AM-P